DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 23, 2026 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Overtime and Holiday Inspection Fees for Small and Very Small Establishments.

OMB Control Number: 0583-0185.

Summary of Collection: The Food Safety and Inspection Service (FSIS) has been delegated the authority to exercise the functions of the Secretary (7 CFR 2.18, 2.53), as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by verifying that meat, poultry, and egg products are safe, wholesome, and properly labeled. FSIS is requesting reinstatement of the previously approved information collection regarding the reduction of overtime and holiday inspection fees for small and very small establishments. FSIS will collect information on the reinstated FSIS Form 5200-16, Overtime/Holiday Rate Reduction Form, to determine whether an establishment inspected by FSIS qualifies for an overtime and holiday inspection fee reduction, and, if so, the amount.

Need and Use of the Information: FSIS intends to use $20 million in de-obligated funds from the Meat and Poultry Expansion Program to temporarily reduce overtime and holiday inspection fees for small and very small official meat, poultry, and egg products establishments. FSIS previously implemented a similar fee reduction initiative and is now seeking to resume providing for reduced overtime and holiday fees for small and very small establishments. Reinstating this information collection will allow FSIS to implement fee reductions again. Establishments must submit the reinstated form to receive the fee reductions.

Description of Respondents: Business or other for-profit.

Number of Respondents: 3,944.

Frequency of Responses: Recordkeeping; Reporting: On occasion.

Total Burden Hours: 724.

Levi S. Harrell,
Departmental Information Collection Clearance Officer.

[FR Doc. 2026-01311 Filed 1-22-26; 8:45 am]

BILLING CODE 3410-DM-P